DEPARTMENT OF THE INTERIOR

Bureau of Indian Affairs

Indian Gaming

AGENCY: Bureau of Indian Affairs, Interior.

ACTION: Notice of extension to Class III Gaming Compact.

SUMMARY: This notice publishes the extension to an approved Class III Gaming Compact between the Assiniboine and Sioux Tribes of the Fort Peck Reservation and the State of Montana. Under the Indian Gaming Regulatory Act of 1988, the Secretary of the Interior is required to publish notice in the Federal Register approved Tribal-State compacts for the purpose of engaging in Class III gaming activities on Indian lands.

EFFECTIVE DATE: July 6, 2004.

FOR FURTHER INFORMATION CONTACT: George T. Skibine, Director, Office of Indian Gaming Management, Office of the Deputy Assistant Secretary—Policy and Economic Development, Washington, DC 20240, (202) 219-4066.

SUPPLEMENTARY INFORMATION: Under Section 11 of the Indian Gaming Regulatory Act of 1988 (IGRA) Public Law 100-497, 25 U.S.C. 2710, the Secretary of the Interior shall publish in the Federal Register notice of approved Tribal-State compacts for the purpose of engaging in Class III gaming activities on Indian lands.

The Assiniboine and Sioux Tribes of the Fort Peck Reservation and the State of Montana have agreed to an extension of the existing agreement and will extend the compact until July 1, 2005. The Principal Deputy Assistant Secretary—Indian Affairs, Department of the Interior, through her delegated authority, is publishing notice that the Extension of Agreement for Class III gaming between the Assiniboine and Sioux Tribes of the Fort Peck Reservation and the State of Montana is in effect.

Dated: June 22, 2004.
Aurene M. Martin,
Principal Deputy Assistant Secretary—Indian Affairs.

[FR Doc. 04-15194 Filed 7-2-04; 8:45 am]

BILLING CODE 4310-4N-P